DEPARTMENT OF COMMERCE

National Oceanic and Atmospheric Administration

RIN 0648-XD667

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a Marine Planning and Climate Change Committee (MPCCC) meeting in Honolulu, HI and by teleconference.

DATES: The MPCCC meeting will be held on Tuesday, January 20, 2015, from 1 p.m. to 3 p.m.

ADDRESSES: The meeting will be held by teleconference and at the Council Office Conference Room, 1164 Bishop Street, Suite 1400, Honolulu, HI; telephone: (808) 522-8220.

FOR FURTHER INFORMATION CONTACT: Kitty M. Simonds, Executive Director; telephone: (808) 522-8220.

SUPPLEMENTARY INFORMATION: The MPCCC will review the draft marine planning and climate change policy and implementation plan, offer an opportunity for public comment and discuss new business. The Committee may make recommendations on these topics.

Agenda

(1) Review of the draft marine planning and climate change policy

(2) Review of the draft implementation plan

(3) Public comment

(4) Committee discussion and recommendations

(5) New business

The order in which agenda items are addressed may change. The Committee will meet as late as necessary to complete scheduled business.

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: December 23, 2014.
Tracey L. Thompson,
Acting Deputy Director, Office of Sustainable Fisheries, National Marine Fisheries Service.

[FR Doc. 2014-30555 Filed 12-30-14; 8:45 am]

BILLING CODE 3510-22-P